DEPARTMENT OF ENERGY

Federal Energy Regulatory Commission

[Docket No. RP03-597-001]

Northwest Pipeline Corporation; Notice of Compliance Filing

October 9, 2003.

Take notice that on October 3, 2003, Northwest Pipeline Corporation (Northwest) tendered for filing as part of its FERC Gas Tariff, Third Revised Volume No. 1, the following tariff sheets, to be effective as indicated:

Effective October 1, 2003

Substitute Second Revised Sheet No. 5-C

Substitute Twenty-First Revised Sheet No. 14

Effective November 1, 2003

Substitute Third Revised Sheet No. 5-C

Northwest states that this filing complies with the Commission's Order dated September 30, 2003, to correct a typographical error on Sheet No. 14 concerning the fuel reimbursement factor for Rate Schedules LS-1, LS-2F and LS-2I. Northwest also states that this filing corrects a typographical error in a footnote to the Evergreen Expansion Project shippers' incremental rates.

Northwest states that a copy of this filing has been served upon each person designated on the official service list complied by the Secretary in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document.

For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: October 15, 2003.

Magalie R. Salas,
Secretary.

[FR Doc. E3-00267 Filed 11-14-03; 8:45 am]

BILLING CODE 6717-01-P